DEPARTMENT OF HEALTH AND HUMAN SERVICES

National Institutes of Health

Proposed Collection; Comment Request; Behavioral and Environmental Risk Factors for Childhood Drowning

SUMMARY: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval.

Proposed Collection Title: Behavioral and Environmental Risk Factors for Childhood Drowning. Type of Information Collection Request: NEW. Need and Use of Information Collection: The proposed study seeks to determine the relationship between swimming lessons, swimming ability, and other risk or protective factors on the one hand, and the risk of drowning on the other. Drowning is the second leading cause of unintentional injury death among children in the United States. Children under the age of five years are at particularly increased risk with drowning rates peaking among 1-2 year olds. Adolescent males are also at increased risk. While some preventive strategies, such as pool fencing, are known to be effective, the impact of other preventive strategies is unclear. For example, it is estimated that at least 20% of children between the ages of 1-4 years participate in formal swimming instructions, yet the effect of these instructions on the risk of drowning is unknown. Some argue that early exposure to swimming lessons might increase the risk of drowning by increasing exposure and decreasing children's fear of the water. Among adolescents, there is some indirect evidence that more skilled swimmers may be at increased risk of drowning. Better swimmers are likely to participate in more water-related activities and may feel confident enough to swim in higher risk settings, such as remote natural bodies of water with no lifeguards present. The findings from this study will provide valuable information concerning risk and protective factors for childhood drownings, information that is crucial in directing future preventive efforts. The proposed study will utilize a case-control methodology to identify associations between behavioral and environmental factors and the risk of drowning.

Interviews will be conducted with parents/guardians of 1500 children. Additionally, interviews may be conducted with approximately 400 adolescents (ages 12 “19 years) to assess risk behaviors related to water activities. Interviews will be conducted over a 27 month study period. Frequency of Response: Two occasions. Affected Public: Individuals or households. Type of Respondents: Parents or Guardians, Adolescents. The annual reporting burden is as follows: Estimated Number of Respondents: 1,900; Estimated Number of Responses per Respondent: 2; Average Burden Hours Per Response: 0.33; and Estimated Total Annual Burden Hours Requested: 557. There are no Capital Costs, Operating Costs and/or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact: Charles Grewe, Contracting Officer, NICHD, NIH. Address: 6100 Executive Blvd., Suite 7A07, Bethesda, MD 20892-7510 ; e-mail address cg59b@nih.gov; Phone: (301)496-4611 (collect calls can not be accepted).

Comments Due Date: Comments regarding this information collection are best assured of having their full effect if received within 60-days of the date of this publication.

Dated: January 15, 2002.
Thomas E. Hooven,
Associate Director for Administration, NICHD.

[FR Doc. 02-2115 Filed 1-28-02; 8:45 am]

BILLING CODE 4140-01-P